DEPARTMENT OF HOUSING AND URBAN DEVELOPMENT

[Docket No. FR-4730-N-32]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnson at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Julie Jones-Conte, Headquarters, Department of the Army, Office of the Assistant Chief of Staff for Installation Management, Attn: DAIM-MD, Room 1E677, 600 Army Pentagon, Washington, DC 20310-0600; (703) 692-9223; DOT: Mr. Rugene Spruill, Principal, Space Management, SVC-140, Transportation Administrative Service Center, Department of Transportation, 400 7th Street, SW., Room 2310, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW., MS5512, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: August 2, 2002.
John D. Garrity,
Director, Office of Special Needs Assistance Programs.

TITLE V, FEDERAL SURPLUS PROPERTY PROGRAM FEDERAL REGISTER REPORT FOR 8/9/02

Suitable/Available Properties

Buildings (by State)

California

Dwelling/Garage

213 Danhauser St.

Alturas Co: CA 96101-

Landholding Agency: GSA

Property Number: 54200230003

Status: Excess

Comment: garage = 480 sq. ft., residence gutted by fire

GSA Number: 9-A-CA-1574

Bldgs. 203-206

Pinnacles Natl Monument

5000 Hwy 146

Paicines Co: San Benito CA 95043-

Landholding Agency: Interior

Property Number: 61200230018

Status: Excess

Comment: four mobile homes, poor condition, singlewide and doublewide, off-site use only

Playgrounds

Marine Corps Logistics Base

Desert View

Barstow Co: San Bernardino CA 92311-

Landholding Agency: Navy

Property Number: 77200230018

Status: Underutilized

Comment: 2 playgrounds with personnel shelter, off-site use only.

Garages

Marine Corps Logistics Base

Desert View

Barstow Co: San Bernardino CA 92311-

Landholding Agency: Navy

Property Number: 77200230019

Status: Underutilized

Comment: sq. ft. varies, needs rehab, possible asbestos/lead paint, off-site use only

76 Structures

Marine Corps Logistics Base

Desert View

Barstow Co: San Bernardino CA 92311-

Landholding Agency: Navy

Property Number: 77200230020

Status: Underutilized

Comment: sq. ft. varies, needs rehab, possible asbestos/lead paint, most recent use—housing, off-site use only

Colorado

Bldg. 16

Colorado Natl Monument

2252 Monument Road

Grand Junction Co: Mesa CO 81503-

Landholding Agency: Interior

Property Number: 61200230019

Status: Underutilized

Comment: 1390 sq. ft. residence, some contamination, off-site use only

Bldg. 17

Colorado Natl Monument

2250 Monument Road

Grand Junction Co: Mesa CO 81503-

Landholding Agency: Interior

Property Number: 61200230020

Status: Underutilized

Comment: 1390 sq. ft. residence, some contamination, off-site use only

Florida

Tract 104-13

Canaveral Natl Seashore

New Smyrna Beach Co: Volusia FL 32169-

Landholding Agency: Interior

Property Number: 61200230005

Status: Excess

Comment: 1422 sq. ft., most recent use—residential, off-site use only

Tract 104-17

Canaveral Natl Seashore

New Smyrna Beach Co: Volusia FL 32169-

Landholding Agency: Interior

Property Number: 61200230006

Status: Excess

Comment: 1322 sq. ft., most recent use—residential, off-site use only

Tract 104-18

Canaveral Natl Seashore

New Smyrna Beach Co: Volusia FL 32169-

Landholding Agency: Interior

Property Number: 61200230007

Status: Excess

Comment: 1260 sq. ft., most recent use—residential, off-site use only

Tract 104-23

Canaveral Natl Seashore

New Smyrna Beach Co: Volusia FL 32169-

Landholding Agency: Interior

Property Number: 61200230008

Status: Excess

Comment: 2316 sq. ft., most recent use—residential, off-site use only

Tract 105-34

Canaveral Natl Seashore

New Smyrna Beach Co: Volusia FL 32169-

Landholding Agency: Interior

Property Number: 61200230009

Status: Excess

Comment: 1260 sq. ft., needs major rehab, most recent use—residential, off-site use only

Maryland

Former Smith Property

Appalachian Natl Scenic Trail

Boonsboro Co: Washington MD 21712-

Landholding Agency: Interior

Property Number: 61200230011

Status: Unutilized

Comment: 1822 sq. ft., most recent use—residential, off-site use only

Massachusetts

Former Health Property

Appalachian Natl Scenic Trail

Tyringhm Co: Berkshire MA 01238-

Landholding Agency: Interior

Property Number: 61200230010

Status: Unutilized

Comment: 1092 sq. ft., most recent use—residential, off-site use only

New Jersey

Former Thompson Property

Appalachian Natl Scenic Trail

Unionville Co: Sussex NJ 07461-

Landholding Agency: Interior

Property Number: 61200230012

Status: Unutilized

Comment: 1144 sq. ft., most recent use—residential, off-site use only

Pennsylvania

Former SSA Bldg.

521 8th Street

Ambridge Co: Beaver PA

Landholding Agency: GSA

Property Number: 54200230004

Status: Excess

Comment: 3935 sq. ft., most recent use—social security office GSA Number: 4-G-PA-0794

Former Zeigler Property

Appalachian Natl Scenic Trail

S. Middleton Co: Cumberland PA 17324-

Landholding Agency: Interior

Property Number: 61200230013

Status: Unutilized

Comment: 1036 sq. ft., most recent use—residential, off-site use only

Texas

Tract 104-43

San Antonio Missions NHP

San Antonio Co: Bexar TX 78223-

Landholding Agency: Interior

Property Number: 61200230014

Status: Unutilized

Comment: 799 sq. ft., most recent use—residential, off-site use only

Tract 104-45

San Antonio Missions NHP

San Antonio Co: Bexar TX 78233-

Landholding Agency: Interior

Property Number: 61200230015

Status: Unutilized

Comment: 999 sq. ft., most recent use—residential, off-site use only

Virginia

Former Funk Property

Appalachian Natl Scenic Trail

Rural Retreat Co: Smyth VA 24368-

Landholding Agency: Interior

Property Number: 61200230016

Status: Unutilized

Comment: 980 sq. ft., mobile home, off-site use only

Former Klene Property

Appalachian Natl Scenic Trail

Paris Co: Clarke VA 20130-

Landholding Agency: Interior

Property Number: 61200230017

Status: Unutilized

Comment: 313 sq. ft., cabin, off-site use only

Suitable/Unavailable Properties

Missouri

Bldg. 3

St. Louis AAP

St. Louis Co: MO

Landholding Agency: Army

Property Number: 21200230070

Status: Unutilized

Comment: 2 floors w/basement, contamination, most recent use—storage

Arizona

Patrol Station

S. of US Hwy 85

Gila Bend Co: AZ

Landholding Agency: GSA

Property Number: 54200230006

Status: Excess

Reason: Within airport runway clear zone GSA Number: 9-J-AZ-821

California

Bldg. 660

Naval Air Weapons Station

China Lake Co: CA 93555-6100

Landholding Agency: Navy

Property Number: 77200230021

Status: Excess

Reason: Extensive deterioration

Bldg. 661

Naval Air Weapons Station

China Lake Co: CA 93555-6100

Landholding Agency: Navy

Property Number: 77200230022

Status: Excess

Reason: Extensive deterioration

Bldg. 1291

Naval Air Weapons Station

China Lake Co: CA 93555-6100

Landholding Agency: Navy

Property Number: 77200230023

Status: Excess

Reason: Extensive deterioration

Bldg. 16026

Naval Air Weapons Station

China Lake Co: CA 93555-6100

Landholding Agency: Navy

Property Number: 77200230031

Status: Excess

Reason: Secured Area

Florida

Bldg. 13

NAS Jacksonville

Pinescastle Bombing Range

Salt Springs Co: Volusia FL

Landholding Agency: Navy

Property Number: 77200230024

Status: Unutilized

Reasons: Secured Area, Extensive deterioration

Bldg. 45

NAS Jacksonville

Pinescastle Bombing Range

Salt Springs Co: Volusia FL

Landholding Agency: Navy

Property Number: 77200230025

Status: Unutilized

Reasons: Secured Area, Extensive deterioration

Bldg. 67

NAS Jacksonville

Pinecastle Bombing Range

Salt Springs Co: Volusia FL

Landholding Agency: Navy

Property Number: 77200230026

Status: Unutilized

Reasons: Secured Area, Extensive deterioration

Bldg. 73

NAS Jacksonville

Pinecastle Bombing Range

Salt Springs Co: FL

Landholding Agency: Navy

Property Number: 77200230027

Status: Unutilized

Reasons: Secured Area, Extensive deterioration

Bldg. 75

NAS Jacksonville

Pinecastle Bombing Range

Salt Springs Co: Volusia FL

Landholding Agency: Navy

Property Number: 77200230028

Status: Unutilized

Reasons: Secured Area, Extensive deterioration

Bldg. 76

NAS Jacksonville

Pinecastle Bombing Range

Salt Springs Co: Volusia FL

Landholding Agency: Navy

Property Number: 77200230029

Status: Unutilized

Reasons: Secured Area, Extensive deterioration

Illinois

Bldg. 625

Fermi Natl Accelerator Lab

Batavia Co: DuPage IL 60510-

Landholding Agency: Energy

Property Number: 41200230004

Status: Excess

Reasons: Extensive deterioration

Kentucky

Dwelling

USCG Shoreside Detachment

Owenshoro Co: Daviess KY

Landholding Agency: DOT

Property Number: 97200230010

Status: Unutilized

Reason: Extensive deterioration

New Jersey

Former Auerbach Property

Appalachian Natl Scenic Trail

Glenwood Co: Sussex NJ 07701-

Landholding Agency: Interior

Property Number: 61200230001

Status: Unutilized

Reason: Extensive deterioration

New York

Bldgs. 0089, 0090

Brookhaven Natl Lab

Upton Co: Suffolk NY 11973-

Landholding Agency: Energy

Property Number: 41200230005

Status: Excess

Reason: Extensive deterioration

Former Guardia Property

Appalachian Natl Scenic Trail

E. Fishkill Co: Dutchess NY 11370-

Landholding Agency: Interior

Property Number: 61200230002

Status: Unutilized

Reason: Extensive deterioration

Pennsylvania

Former Sunday Property

Appalachian Natl Scenic Trail

Boiling Springs Co: Cumberland PA 17007-

Landholding Agency: Interior

Property Number: 61200230003

Status: Unutilized

Reason: Extensive deterioration

Tennessee

Tract 01-186

Stones River Natl Battlefield

Murfreesboro Co: Rutherford TN 37129-

Landholding Agency: Interior

Property Number: 61200230004

Status: Excess

Reason: Extensive deterioration

Virginia

6 Bldgs.

Marine Corps Base

Quantico Co: VA

Location: #2902, 2906, 2923, 2928, 2930, 2950

Landholding Agency: Navy

Property Number: 77200230030

Status: Excess

Reason: Extensive deterioration

Washington

Goat Island Quarry

Skagit Co: WA

Landholding Agency: GSA

Property Number: 54200230005

Status: Excess

Reason: not accessible

GSA number: 9-D-WA-1201

Bldg. 899

Puget Sound Naval Shipyard

Bremerton Co: WA 98314-5000

Landholding Agency: Navy

Property Number: 77200230032

Status: Unutilized

Reasons: Within 2000 ft. of flammable or explosive material, Secured Area

[FR Doc. 02-20023 Filed 8-8-02; 8:45 am]

BILLING CODE 4210-29-M